DEPARTMENT OF TRANSPORTATION

Federal Aviation Administration

14 CFR Part 39

[Docket No. FAA-2008-0362; Directorate Identifier 2007-NM-308-AD; Amendment 39-15611; AD 2008-14-16]

RIN 2120-AA64

Airworthiness Directives; 328 Support Services GmbH Dornier Model 328-100 and -300 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

At least one incident has occurred where, immediately after take-off, the passenger door of a Dornier 328 completely opened. * * * Substantial damage to the door, handrails, door hinge arms and fuselage skin were found.

* * * Although final proof could not be obtained, the most likely way in which the door opened was that the door handle was inadvertently operated during the take-off run.

* * * * *

[T]his Airworthiness Directive (AD) aims to prevent further incidents of inadvertent opening and possible detachment of a passenger door in-flight, likely resulting in damage to airframe and systems and, under less favorable circumstances, loss of control of the aircraft.

* * * * *

We are issuing this AD to require actions to correct the unsafe condition on these products.

DATES: This AD becomes effective August 21, 2008.

The Director of the Federal Register approved the incorporation by reference of certain publications listed in this AD as of August 21, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on March 27, 2008 (73 FR 16219). That NPRM proposed to correct an unsafe condition for the specified products. The MCAI states:

At least one incident has occurred where, immediately after take-off, the passenger door of a Dornier 328 completely opened. The flight crew reportedly had no cockpit indication or audible chime prior to this event. The aircraft returned to the departure airfield and made an uneventful emergency landing. Substantial damage to the door, handrails, door hinge arms and fuselage skin were found.

The subsequent investigation could not find any deficiency in the design of the main cabin door locking mechanism. In addition, no technical failure could be determined that precipitated the event. The flight data recorder showed that the door was closed and locked before take-off and opened shortly afterward. Although final proof could not be obtained, the most likely way in which the door opened was that the door handle was inadvertently operated during the take-off run.

In response to the incident, AvCraft (the TC (type certificate) holder at the time) developed a placard set to warn the occupants against touching the door handle, as well as a structural modification of the passenger door hinge supports to make certain that the door does not separate from the aircraft when inadvertently opened during flight, allowing a safe descent and landing.

Although the event described above did not prevent the flight crew from landing the aircraft safely, the condition of the aircraft immediately after the opening of the door has been determined to have been unsafe. [T]his Airworthiness Directive (AD) aims to prevent further incidents of inadvertent opening and possible detachment of a passenger door in-flight, likely resulting in damage to airframe and systems and, under less favorable circumstances, loss of control of the aircraft.

* * * * *

Corrective actions include installing warning placards on the doors, and doing a modification that includes replacing the hinge supports and support struts of the passenger doors with new, improved hinge supports and support struts. You may obtain further information by examining the MCAI in the AD docket.

Comments

We gave the public the opportunity to participate in developing this AD. We considered the comment received. The commenter provided information on an incident that occurred on a Dornier Model 228 airplane and asked for the procedure for reporting the incident to additional agencies so that appropriate action is taken. The applicability in the NPRM is for Dornier Model 328-100 and -300 airplanes; therefore, the comment does not apply to this AD. The comment has been forwarded to the appropriate FAA office and will be addressed by that office accordingly.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 106 products of U.S. registry. We also estimate that it will take 38 work-hours per product to comply with the basic requirements of this AD. The average labor rate is $80 per work-hour. Required parts will cost about $11,961 per product. Where the service information lists required parts costs that are covered under warranty, we have assumed that there will be no charge for these parts. As we do not control warranty coverage for affected parties, some parties may incur costs higher than estimated here. Based on these figures, we estimate the cost of this AD to the U.S. operators to be $1,590,106, or $15,001 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-14-16 328 Support Services GmbH (Formerly AvCraft Aerospace GmbH formerly Fairchild Dornier GmbH, formerly Dornier Luftfahrt GmbH): Amendment 39-15611. Docket No. FAA-2008-0362; Directorate Identifier 2007-NM-308-AD.

Effective Date

(a) This airworthiness directive (AD) becomes effective August 21, 2008.

Affected ADs

(b) None.

Applicability

(c) This AD applies to 328 Support Services GmbH Dornier Model 328-100 airplanes, having serial numbers (S/Ns) 3005 through 3098, 3100, 3101, 3106, 3107, 3109, 3110, 3112, 3113, 3115, 3117 and 3119; and Model 328-300 airplanes, having S/Ns 3102, 3105, 3108, 3111, 3114, 3116, 3118, and 3120 through 3224; certificated in any category.

Subject

(d) Air Transport Association (ATA) of America Code 11: Placards and Markings; and Code 52: Doors.

Reason

(e) The mandatory continuing airworthiness information (MCAI) states:

At least one incident has occurred where, immediately after take-off, the passenger door of a Dornier 328 completely opened. The flight crew reportedly had no cockpit indication or audible chime prior to this event. The aircraft returned to the departure airfield and made an uneventful emergency landing. Substantial damage to the door, handrails, door hinge arms and fuselage skin were found.

The subsequent investigation could not find any deficiency in the design of the main cabin door locking mechanism. In addition, no technical failure could be determined that precipitated the event. The flight data recorder showed that the door was closed and locked before take-off and opened shortly afterward. Although final proof could not be obtained, the most likely way in which the door opened was that the door handle was inadvertently operated during the take-off run.

In response to the incident, AvCraft (the TC (type certificate) holder at the time) developed a placard set to warn the occupants against touching the door handle, as well as a structural modification of the passenger door hinge supports to make certain that the door does not separate from the aircraft when inadvertently opened during flight, allowing a safe descent and landing.

Although the event described above did not prevent the flight crew from landing the aircraft safely, the condition of the aircraft immediately after the opening of the door has been determined to have been unsafe. [T]his Airworthiness Directive (AD) aims to prevent further incidents of inadvertent opening and possible detachment of a passenger door in-flight, likely resulting in damage to airframe and systems and, under less favorable circumstances, loss of control of the aircraft.

* * * * *

Corrective actions include installing warning placards on the doors, and doing a modification that includes replacing the hinge supports and support struts of the passenger doors with new, improved hinge supports and support struts.

Actions and Compliance

(f) Unless already done, do the following actions.

(1) Within 30 days after the effective date of this AD, install warning placards on the inside of the passenger door and service doors, in accordance with the Accomplishment Instructions of Dornier Service Bulletin SB-328-11-454 (for Model 328-100 airplanes) or SB-328J-11-209 (for Model 328-300 airplanes), both dated May 3, 2004, as applicable.

(2) Within 12 months after the effective date of this AD, modify the hinge supports and support struts of the passenger doors, in accordance with the Accomplishment Instructions of Dornier Service Bulletin SB-328-52-460 (for Model 328-100 airplanes) or SB-328J-52-213, (for Model 328-300 airplanes), both dated February 4, 2005, as applicable.

FAA AD Differences

Note: This AD differs from the MCAI and/or service information as follows:

No differences.

Other FAA AD Provisions

(g) The following provisions also apply to this AD:

(1) Alternative Methods of Compliance (AMOCs): The Manager, International Branch, ANM-116, FAA, Transport Airplane Directorate, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0199, dated July 25, 2007 (corrected July 26, 2007), and the service bulletins described in Table 1 of this AD, for related information.

Table 1.—Service Information
Dornier Service Bulletin | Dated
SB-328-11-454 | May 3, 2004.
SB-328-52-460 | February 4, 2005.
SB-328J-11-209 | May 3, 2004.
SB-328J-52-213 | February 4, 2005.

Material Incorporated by Reference

(i) You must use the service information specified in Table 2 of this AD to do the actions required by this AD, unless the AD specifies otherwise.

Table 2.—Material Incorporated by Reference
Dornier Service Bulletin | Dated
SB-328-11-454 | May 3, 2004.
SB-328-52-460 | February 4, 2005.
SB-328J-11-209 | May 3, 2004.
SB-328J-52-213 | February 4, 2005.

(Only the title page of these documents contains the revision level and date of the documents.)

(1) The Director of the Federal Register approved the incorporation by reference of this service information under 5 U.S.C. 552(a) and 1 CFR part 51.

(2) For service information identified in this AD, contact 328 Support Services GmbH, P.O. Box 1252, D-82231 Wessling, Federal Republic of Germany.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Issued in Renton, Washington, on June 26, 2008.
Dionne Palermo,
Acting Manager, Transport Airplane Directorate, Aircraft Certification Service.

[FR Doc. E8-15709 Filed 7-16-08; 8:45 am]

BILLING CODE 4910-13-P